FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201292-002.

Agreement Name: Puerto Nuevo Terminals LLC Cooperative Working Agreement.

Parties: Luis A. Ayala Colon Sucrs., Inc.; Puerto Rico Terminals, LLC; and Puerto Nuevo Terminals.

Filing Party: Matthew Thomas; Blank Rome LLP.

Synopsis: The amendment confirms that the parties have not agreed to, and are not authorized to, effect a merger or acquisition. The amendment also provides that carrier customer contracts will not be transferred to PNT and adds a termination date of June 30, 2028. The previous amendment to this Agreement, 201292-001, was withdrawn on April 3, 2020.

Proposed Effective Date: 5/18/2020.

Location: https://www2.fmc.gov/FMC.Agreements.Web/Public/AgreementHistory/21354.

Dated: April 7, 2020.
Rachel Dickon,
Secretary.

[FR Doc. 2020-07650 Filed 4-10-20; 8:45 am]

BILLING CODE 6730-02-P